NATIONAL SCIENCE FOUNDATION

Special Emphasis Panel in Bioengineering and Environmental Systems; Notice of Meeting

In accordance with the Federal Advisory Committee Act (Pub. L. 92-463, as amended), the National Science Foundation announces the following meeting.

Name: Special Emphasis Panel in Bioengineering and Environmental Systems (1189)

Date and Time: November 20-21, 2000; 8:00am-5:00pm

Place: National Science Foundation, 4201 Wilson Blvd, Rooms 310 and 330, Arlington, VA

Type of Meeting: Closed

Contact Person: Sohi Rastegar, Program Director, Biomedical Engineering and Research to Aid Persons with Disabilities, Division of Bioengineering and Environmental Systems, National Science Foundation, 4201 Wilson Boulevard, Arlington, VA 22230, Telephone: (703) 292-8320.

Purpose of Meeting: To provide advice and recommendations concerning proposals submitted to NSF for financial support.

Agenda: To review and evaluate proposals received under the Faculty Early Career Development (CAREER) Program (Announcement Number NSF 00-89), as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: October 23, 2000.
Karen J. York,
Committee Management Officer.

[FR Doc. 00-27541 Filed 10-25-00; 8:45 am]

BILLING CODE 7555-01-M